DEPARTMENT OF TRANSPORTATION

Federal Aviation Administration

14 CFR Part 77

[Docket No. FAA-2006-25002; Amendment No. 77-13-A]

RIN 2120-AH31

Safe, Efficient Use and Preservation of the Navigable Airspace; Correction

AGENCY: Federal Aviation Administration (FAA), DOT.

ACTION: Final rule; correction.

SUMMARY: The FAA is correcting the regulation addressing the effective date of FAA determinations issued under 14 CFR part 77. The FAA amended this regulation by final rule published on July 21, 2010. The purpose of the final rule was to update the regulations governing objects that may affect the navigable airspace, to incorporate case law and legislative action, and to simplify the rule language. In one section of the regulations, we inadvertently state that the effective date of all determinations is 40 days from the date of issuance. However, only FAA determinations subject to the discretionary review process are effective 40 days from the date of issuance. All other FAA determinations are effective upon issuance. This document corrects that error.

DATES: Effective January 18, 2011.

FOR FURTHER INFORMATION CONTACT: Ellen Crum, Air Traffic Organization, Airspace, Regulations and ATC Procedures Group, 800 Independence Ave., SW., Washington, DC 20591. (202) 267-8783; e-mail: ellen.crum@faa.gov.

SUPPLEMENTARY INFORMATION:

Background

On July 21, 2010 (75 FR 42296), we published a final rule that updated the FAA's notice and obstruction standards requirements in Title 14 of the Code of Federal Regulations (14 CFR) part 77. These regulations had not been updated in many years, and we found it necessary to update them to incorporate case law and legislative action, and to simplify the rule language.

In the preamble discussion for the Notice of Proposed Rulemaking, the FAA proposed and subsequently adopted in the final rule that a Determination of Hazard or a Determination of No Hazard will become effective 40 days from the date of issuance, unless a petition for discretionary review is filed and received by the FAA within 30 days from the date of issuance. (See 71 FR 34028, 34037 and 75 FR 42296, respectively, published on June 13, 2006 and July 21, 2010.) Consequently, § 77.33(a), as adopted in the final rule, states “A determination issued under this subpart is effective 40 days after the date of issuance, unless a petition for discretionary review is received by the FAA * * *”

As written, this requirement incorrectly applies to all FAA determinations. The FAA's intent was to prevent a determination from becoming effective in the event that a petition for discretionary review was filed for a particular aeronautical study. Section 77.33(a) should have provided two effective dates. For determinations that are not subject to discretionary review, the effective date continues to be the date of issuance, which is consistent with the current rule. For determinations that are subject to the discretionary review process, these determinations will become effective 40 days from the date of issuance, unless a petition for discretionary review has been filed. Therefore, we find that paragraph (a) of this section must be corrected to provide the above two effective dates.

Accordingly, in the final rule, FR Doc. 2010-17767, published on July 21, 2010 (75 FR 42296), make the following corrections:

§ 77.33 [Corrected]

1. On page 42307, in the second column, in § 77.33, the text of paragraph (a) is corrected to read as follows:

§ 77.33 Effective period of determinations.

(a) The effective date of a determination not subject to discretionary review under 77.37(b) is the date of issuance. The effective date of all other determinations for a proposed or existing structure is 40 days from the date of issuance, provided a valid petition for review has not been received by the FAA. If a valid petition for review is filed, the determination will not become final, pending disposition of the petition.

* * * * *

Issued in Washington, DC on January 12, 2011.
Pamela Hamilton-Powell,
Director, Office of Rulemaking.

[FR Doc. 2011-863 Filed 1-14-11; 8:45 am]

BILLING CODE 4910-13-P